FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010050-016.

Title: U.S. Flag Discussion Agreement.

Parties: American President Lines, Ltd.; A.P. Moller-Maersk A/S; Lykes Lines Limited, LLC; P&O Nedlloyd Limited; and Farrell Lines Incorporated.

Filing Party: Wayne R. Rohde, Esq.; Sher & Blackwell LLP; 1850 M Street, NW., Suite 900; Washington, DC 20036.

Synopsis: The amendment adds APL Co. PTE Ltd. as a party to the agreement.

By Order of the Federal Maritime Commission.
August 19, 2005.
Bryant VanBrakle,
Secretary.

[FR Doc. 05-16856 Filed 8-24-05; 8:45 am]

BILLING CODE 6730-01-P